DEPARTMENT OF COMMERCE

National Oceanic and Atmospheric Administration

[I.D. 072104C]

Mid-Atlantic Fishery Management Council; Public Meetings

AGENCY: National Marine Fisheries Service (NMFS), National Oceanic and Atmospheric Administration (NOAA), Commerce.

ACTION: Notice of a public meeting.

SUMMARY: The Mid-Atlantic Fishery Management Council (Council), Executive Committee, its Ecosystems Committee, and its Demersal Species Committee meeting as a Council Committee of the Whole with the Atlantic States Marine Fisheries Commission's (ASMFC) Summer Flounder, Scup, and Black Sea Bass Board, and Bluefish Board (s) will hold a public meeting.

DATES: The meeting will be held on Tuesday, August 10, 2004 through Thursday, August 12, 2004. See SUPPLEMENTARY INFORMATION for specific dates and times.

ADDRESSES: The meeting will be held at the Wyndham Baltimore Inner Harbor, 101 Fayette Street, Baltimore, MD; telephone: (410) 752-1100.

Council address: Mid-Atlantic Fishery Management Council, 300 S. New Street, Dover, DE 19904, telephone: (302) 674-2331.

FOR FURTHER INFORMATION CONTACT: Daniel T. Furlong, Executive Director, Mid-Atlantic Fishery Management Council; telephone: 302-674-2331, ext. 19.

SUPPLEMENTARY INFORMATION: Agenda items for the Council's committees and the Council itself are:

On Tuesday, August 10, the Executive Committee will meet from 9 a.m. to 10 a.m. and the Council will convene at 10 a.m., and meet from 10 a.m. to 5 p.m. On Wednesday, August 11, new and reappointed members will be sworn into office from 8 a.m. to 8:10 a.m. The Council will meet jointly with the ASMFC's Summer Flounder, Scup, and Black Sea Bass Boards from 8:10 a.m. to 5:30 p.m. On Thursday, August 12, the Ecosystems Committee will meet from 8 a.m. to 9:30 a.m. and the Council will meet from 9:30 a.m. until approximately 2 p.m.

On Tuesday, August 10, the Executive Committee will review functional responsibilities of the Council; also will review and discuss Council relationships with NMFS, NOAA, DOC and U.S. Congress vis-a-vis “teamwork and cooperation;” the Council will receive a report of the 39th Stock Assessment Review Committee and review summary results of this report; the Council and ASMFC's Bluefish Board will review the Bluefish Monitoring Committee's recommendations regarding 2005 harvest level and associated management measures, and recommend the 2005 harvest level and associated management measures.

On Wednesday, August 11, the Council and ASMFC's Summer Flounder, Scup, and Black Sea Bass Boards will review Monitoring Committee recommendations regarding the 2005, 2005 and 2006, or 2005, 2006, and 2007 harvest levels and commercial management measures, and recommend the 2005, 2005 and 2006, or 2005, 2006, and 2007 harvest levels and commercial management measures for summer flounder, scup, and black sea bass.

On Thursday, August 12, the Ecosystems Committee will review the Council's grant Statement of Work (SOW) and develop additional options to be included in the proposed program. The Council will also receive and discuss committee and organizational reports including the Highly Migratory Species, the Trawl Survey Committee's report on items discussed at its meeting held July 7 and 8 in Philadelphia, the Executive Committee, Ecosystems Committee, New England Council's report regarding possible actions on herring, groundfish, monkfish, red crab, scallops, skates and whiting; the South Atlantic Council's report; and act on any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Debbie Donnangelo at least 5 days prior to the meeting date.

Dated: July 22, 2004.
Alan D. Risenhoover,
Acting Director, Office of Sustainable Fisheries, National Marine Fisheries Service.

[FR Doc. E4-1652 Filed 7-26-04; 8:45 am]

BILLING CODE 3510-22-S